DEPARTMENT OF COMMERCE

International Trade Administration

[A-570-985]

Xanthan Gum From the People's Republic of China: Final Results of 2013 Antidumping Duty New Shipper Review

AGENCY: Enforcement and Compliance, International Trade Administration, Department of Commerce.

DATES: Effective Date: May 22, 2015.

SUMMARY: On December 31, 2014, the Department of Commerce (“Department”) published the preliminary results of the antidumping duty new shipper review of xanthan gum from the People's Republic of China (“PRC”).¹ We invited interested parties to comment on our preliminary results. Following our analysis of the comments received, we made changes to our preliminary margin calculation for the new shipper Meihua Group International Trading (Hong Kong) Limited, Langfang Meihua Bio-Technology Co., Ltd., and Xinjiang Meihua Amino Acid Co., Ltd. (collectively, “Meihua”). We continue to find that Meihua did not make sales of subject merchandise at less than normal value.

¹ See Xanthan Gum From the People's Republic of China: Preliminary Results of 2013 Antidumping Duty New Shipper Review, 79 FR 78797 (December 31, 2014) (“Preliminary Results”).

FOR FURTHER INFORMATION CONTACT: Brandon Farlander, AD/CVD Operations, Office IV, Enforcement and Compliance, International Trade Administration, U.S. Department of Commerce, 14th Street and Constitution Avenue NW., Washington, DC 20230; telephone: (202) 482-0182.

SUPPLEMENTARY INFORMATION:

Case History

The Department published the Preliminary Results on December 31, 2014.² On January 30, 2015, CP Kelco U.S., Inc.³ submitted its case brief. On February 9, 2015, Meihua submitted a rebuttal brief.

² Also adopted as part of the preliminary results was the Memorandum to Ronald K. Lorentzen entitled “Decision Memorandum for the Preliminary Results of the 2013 Antidumping Duty New Shipper Review of Xanthan Gum from the People's Republic of China,” dated December 18, 2014 (“Preliminary Decision Memorandum”).

³ CP Kelco U.S., Inc. is the petitioner.

Period of Review

The period of review (“POR”) for this new shipper review is July 19, 2013 through December 31, 2013. This POR corresponds to the period from the date of suspension of liquidation to the end of the month immediately preceding the first semiannual anniversary month pursuant to 19 CFR 351.214(g)(1)(ii)(B).

Scope of the Order

The scope of the order covers dry xanthan gum, whether or not coated or blended with other products. Further, xanthan gum is included in this order regardless of physical form, including, but not limited to, solutions, slurries, dry powders of any particle size, or unground fiber. Merchandise covered by the scope of this order is classified in the Harmonized Tariff Schedule (“HTS”) of the United States at subheading 3913.90.20. This tariff classification is provided for convenience and customs purposes; however, the written description of the scope is dispositive.⁴

⁴ For a complete description of the Scope of the Order, see “Issues and Decision Memorandum for the Final Results of the Antidumping Duty New Shipper Review of Xanthan Gum from the People's Republic of China,” (“Issues and Decision Memorandum”), dated concurrently with this notice.

Analysis of Comments Received

All issues raised in the case and rebuttal briefs by parties to this new shipper review are addressed in the Issues and Decision Memorandum, which is hereby adopted by this notice. A list of the issues which parties raised and to which we respond in the Issues and Decision Memorandum is attached to this notice as an Appendix. The Issues and Decision Memorandum is a public document and is on file electronically via Enforcement and Compliance's Antidumping and Countervailing Duty Centralized Electronic Service System (ACCESS). ACCESS is available to registered users at https://access.trade.gov and it is available to all parties in the Central Records Unit, Room 7046 of the main Department of Commerce building. In addition, a complete version of the Issues and Decision Memorandum can be accessed directly on the Internet at http://enforcement.trade.gov/frn/index.html. The signed Issues and Decision Memorandum and the electronic version of the Issues and Decision Memorandum are identical in content.

Final Results Margin

The Department finds that the following weighted-average dumping margin exists for the exporter/producer combination listed below for the period July 19, 2013 through December 31, 2013:

Exporter | Producer | Weighted- average dumping margin (percent)
Meihua Group International Trading (Hong Kong) Limited/Langfang Meihua Bio-Technology Co., Ltd./Xinjiang Meihua Amino Acid Co., Ltd | Meihua Group International Trading (Hong Kong) Limited/Langfang Meihua Bio-Technology Co., Ltd./Xinjiang Meihua Amino Acid Co., Ltd | 0.00

Disclosure

We intend to disclose to parties the calculations performed in this proceeding within five days of the date of public announcement of the results of this review in accordance with 19 CFR 351.224(b).

Assessment Rates

Upon issuance of the final results, the Department will determine, and U.S. Customs and Border Protection (“CBP”) shall assess, antidumping duties on all appropriate entries in accordance with 19 CFR 351.212(b). The Department intends to issue assessment instructions to CBP 15 days after the date of publication of the final results of review. Because Meihua's weighted-average dumping margin is zero, we will instruct CBP to liquidate the appropriate entries without regard to antidumping duties. For entries that were not reported in the U.S. sales database submitted by Meihua, the Department will instruct CBP to liquidate such entries at the NME-wide rate.⁵

⁵ For a full discussion of this practice, see Non-Market Economy Antidumping Proceedings: Assessment of Antidumping Duties, 76 FR 65694 (October 24, 2011).

Cash Deposit Requirements

The following cash deposit requirements will be effective upon publication of the final results of this new shipper review for shipments of the subject merchandise from the PRC entered, or withdrawn from warehouse, for consumption on or after the publication date, as provided for by section 751(a)(2)(C) of the Tariff Act of 1930, as amended (the “Act”). For the exporter/producer combination listed above, the cash deposit rate will be 0.00 percent. This deposit requirement, when imposed, shall remain in effect until further notice.

Notification to Importers

This notice also serves as a final reminder to importers of their responsibility under 19 CFR 351.402(f)(2) to file a certificate regarding the reimbursement of antidumping duties prior to liquidation of the relevant entries during this POR. Failure to comply with this requirement could result in the Secretary's presumption that reimbursement of the antidumping duties occurred and the subsequent assessment of double antidumping duties.

Notification Regarding APO

This notice also serves as a reminder to the parties subject to administrative protective order (“APO”) of their responsibility concerning the disposition of business proprietary information (“BPI”) disclosed under APO in accordance with 19 CFR 351.305(a)(3), which continues to govern BPI in this segment of the proceeding. Timely notification of return or destruction of APO materials or conversion to judicial protective order is hereby requested. Failure to comply with the regulations and terms of an APO is a sanctionable violation.

This determination is issued and published in accordance with sections 751(a)(2)(B) and 777(i) of the Act.

Dated: May 18, 2015.
Paul Piquado,
Assistant Secretary for Enforcement and Compliance.

Appendix—Issues for Final Results

Summary

Background

Period of Review

Scope of the order

Single company treatment

Bona fide analysis

List of Abbreviations and Acronyms

Discussion of Issues

Issue 1: Corn starch intermediate input

Issue 2: Corn SV

Issue 3: Surrogate Financial Statements

Issue 4: Whether Meihua's energy allocation methodology is distortive

Recommendation

[FR Doc. 2015-12520 Filed 5-21-15; 8:45 am]

BILLING CODE 3510-DS-P